DEPARTMENT OF HEALTH AND HUMAN SERVICES

Centers for Disease Control and Prevention

Decision to Evaluate a Petition to Designate a Class of Employees at Allied Chemical Corp. Plant, Metropolis, IL To Be Included in the Special Exposure Cohort

AGENCY: Centers for Disease Control and Prevention (CDC), Department of Health and Human Services (HHS).

ACTION: Notice.

SUMMARY: The Department of Health and Human Services (HHS) gives notice as required by 42 CFR 83.12(e) of a decision to evaluate a petition to designate a class of employees at Allied Chemical Corp. Plant, Metropolis, Illinois, to be included in the Special Exposure Cohort under the Energy Employees Occupational Illness Compensation Program Act of 2000. The initial proposed definition for the class being evaluate, subject to revision as warranted by the evaluation, is as follows:

Facility: Allied Chemical Corp. Plant.

Location: Metropolis, Illinois.

Job Titles and/or Job Duties: All workers at Allied Chemical Corp. Plant who were monitored or should have been monitored while they were working in any of the following: Feed Materials Building, Sodium Removal, Uranium Recovery Building, Sampling Plant, Laboratory Building, Ore Storage Locations.

Period of Employment: January 1, 1959 to December 31, 1976.

FOR FURTHER INFORMATION CONTACT: Larry Elliott, Director, Office of Compensation Analysis and Support, National Institute for Occupational Safety and Health, 4676 Columbia Parkway, MS C-46, Cincinnati, OH 45226, Telephone 513-533-6800 (this is not a toll-free number). Information requests can also be submitted by e-mail to OCAS@CDC.GOV.

Dated: September 18, 2006.
John Howard,
Director, National Institute for Occupational Safety and Health, Centers for Disease Control and Prevention.

[FR Doc. 06-7972 Filed 9-21-06; 8:45 am]

BILLING CODE 4163-19-M